FEDERAL HOUSING FINANCE AGENCY

12 CFR Part 1282

RIN 2590-AA81

2018-2020 Enterprise Housing Goals

Correction

Proposed Rule document 2017-14039 appearing on pages 31009 through 31030 in the issue of Wednesday, July 5, 2017 was withdrawn from public inspection and published in error. It should be removed.

[FR Doc. C1-2017-14039 Filed 7-6-17; 8:45 am]

BILLING CODE 1301-00-D